DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2002, there were five applications approved. This notice also includes information on four applications, approved in October 2002, inadvertently left off the October 2002 notice. Additionally, ten approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Jackson Hole Airport Board, Jackson, Wyoming.

Application Number: 02-08-C-00-JAC.

Application Type: Impose and use a PFC.

PFC Level: $4.50.

Total PFC Revenue Approved in This Decision: $953,023.

Earliest Charge Effective Date: December 1, 2002.

Estimated Charge Expiration Date: November 1, 2004.

Class of Air Carriers Not Required to Collect PFC's: None.

Brief Description of Projects Approved for Collection and Use:

Aircraft parking apron expansion.

Security improvements.

Friction measuring equipment.

Snow removal equipment.

Terminal design.

Decision Date: October 1, 2002.

For Further Information Contact: Christopher Schaffer, Denver Airports District Office, (303) 342-1258.

Public Agency: City of Chicago—Department of Aviation, Chicago, Illinois.

Application Number: 02-14-C-00-ORD.

Application Type: Impose and use a PFC.

PFC Level: $3.00.

Total PFC Revenue Approved in This Decision: $2,565,000.

Earliest Charge Effective Date: December 1, 2016.

Estimated Charge Expiration Date: February 1, 2017.

Class of Air Carriers Not Required to Collect PFC's: Air taxi.

Determination: Approved. Based on information contained in the public agency's application, the FAA has determined that the approved class accounts for less than 1 percent of the total annual enplanements at Chicago O'Hare International Airport (ORD).

Brief Description of Projects Approved for Collection at ORD and Use at Gary/Chicago Airport:

Acquire snow removal equipment (snow broom).

Expand snow removal equipment building.

Rehabilitate runway 12/30.

Terminal apron expansion and loading bridge installation.

Decision Date: October 22, 2002.

For Further Information Contact: Philip M. Smithmeyer, Chicago Airports District Office, (847) 294-7335.

Public Agency: City of Minot, North Dakota.

Application Number: 02-06-C-00-MOT.

Application Type: Impose and use a PFC.

PFC Level: $4.50.

Total PFC Revenue Approved in This Decision: $2,432,182.

Earliest Charge Effective Date: April 1, 2003.

Estimated Charge Expiration Date: July 1, 2011.

Class of Air Carriers Not Required to Collect PFC's: Air taxi/commercial operating filing FAA Form 1800-31.

Determination: Approved. Based on information contained in the public agency's application, the FAA has determined that the approved class accounts for less than 1 percent of the total annual enplanements at Minot International Airport.

Brief Description of Projects Approved for Collection and Use:

Runway 13/31 reconstruction, runway 13/31 and taxiway C translation and extension, associate taxiway reconstruction, other associated installations and relocations, and project implementation.

Land avigation easements.

Friction measuring equipment.

Install airport perimeter fencing and associated outflow attenuation structures.

Preparation of PFC amendment ($3.00 to $4.50).

Preparation of PFC.

Snow removal equipment.

Construct 48-inch storm sewer.

Decision Date: October 22, 2002.

For Further Information Contact: Steven J. Obenauer, Bismarck Airports District Office, (701) 323-7380.

Public Agency: Huntsville-Madison County Airport Authority, Huntsville, Alabama.

Application Number: 02-12-C-00-HSV.

Application Type: Impose and use a PFC.

PFC Level: $4.50.

Total PFC Revenue Approved in This Decision: $2,649,591.

Earliest Charge Effective Date: September 1, 2004.

Estimated Charge Expiration Date: September 1, 2005.

Classes of Air Carriers Not Required to Collect PFC's: (1) Air taxi/commercial operators; and (2) certified route air carriers having fewer than 500 annual passenger enplanements.

Determination: Approved. Based on the information in the public agency's application, the FAA has determined that each approved class accounts for less than 1 percent of the total annual enplanements at Huntsville International Airport.

Brief Description of Projects Approved for Collection and Use:

West runway extension to 12,600 feet.

Noise mitigation/land acquisition (Murphy property—101.7 acres).

Security vehicle.

Decision Date: October 30, 2002.

For Further Information Contact: Keafur Grimes, Jackson Airports District Office, (601) 664-9886.

Public Agency: Airport Authority of Washoe County, Reno, Nevada.

Application Number: 02-06-C-00-RNO.

Application Type: Impose and use a PFC.

PFC Level: $4.50.

Total PFC Revenue Approved in This Decision: $10,000,000.

Earliest Charge Effective Date: February 1, 2003.

Estimated Charge Expiration Date: November 1, 2003.

Class of Air Carriers Not Required to Collect PFC's: Nonscheduled/on-demand air carriers filing FAA Form 1800-31.

Determination: Approved. Based on the information in the public agency's application, the FAA has determined that the approved class accounts for less than 1 percent of the total annual enplanements at Reno/Tahoe International Airport.

Brief Description of Project Approved for Collection and Use: Acquisition of Lazovich and B&C properties.

Decision Date: November 5, 2002.

For Further Information Contact: Marlys Vandervelde, San Francisco Airports District Office, (650) 876-2806.

Public Agency: City of Pierre, South Dakota.

Application Number: 02-01-C-00-PIR.

Application Type: Impose and use a PFC.

PFC Level: $4.50.

Total PFC Revenue Approved in This Decision: $366,239.

Earliest Charge Effective Date: February 1, 2003.

Estimated Charge Expiration Date: June 1, 2008.

Class of Air Carriers Not Required to Collect PFC's: None.

Brief Description of Projects Approved for Collection and Use:

Preparation of initial PFC.

Rehabilitation of runway 7/25.

Taxiway C reconstruction.

General aviation ramp replacement.

Snow removal equipment.

Passenger loading ramp.

Air carrier terminal apron construction/rehabilitation.

Update airport master plan and airport layout plan.

Perimeter wildlife fence and airport boundary fence.

General aviation apron improvements.

Decision Date: November 6, 2002.

For Further Information Contact: Thomas T. Schauer, Bismarck Airports District Office, (701) 323-7380.

Public Agency: Gallatin Airport Authority, Belgrade, Montana.

Application Number: 02-02-C-00-BZN.

Application Type: Impose and use a PFC.

PFC Level: $3.00.

Total PFC Revenue Approved in This Decision: $1,790,000.

Earliest Charge Effective Date: May 1, 2003.

Estimated Charge Expiration Date: April 1, 2006.

Class or Air Carriers Not Required to Collect PFC'S: Air taxi/ commercial operators filing FAA Form 1800-31.

Determination: Approved. Based on the information in the public agency's application, the FAA has determined that the approved class accounts for less than 1 percent to the total annual enplanements at Gallatin Field Airport.

Brief Description of Projects Approved for Collection and Use:

Equipment storage building.

Terminal ramp expansion.

Broom/sweeper.

Taxiway and apron resurfacing.

Runway 12/30 resurfacing.

Decision Date: November 22, 2002.

For Further Information Contact: David S. Stelling, Helena Airports District Office, (406) 449-5271.

Public Agency: Jackson County Airport Authority, Medford, Oregon.

Application Number: 02-08-C-00-MFR.

Application Type: Impose and use of PFC.

PFC Level: $4.50.

Total PFC Revenue Approved in This Decision: $105,000.

Earliest Charge Effective Date: May 1, 2004.

Estimated Charge Expiration Date: July 1, 2004.

Class of Air Carriers Not Required to Collect PFC'S: Operations by air taxi/commercial operators when enplaning revenue passengers in limited, irregular, special service air taxi/commercial operations such as air ambulance services, student instruction, non-stop sightseeing flights that begin and end at the airport and are concluded within a 25-mile radius of the airport.

Determination: Approved. Based on the information in the public agency's application, the FAA has determined that the approved class accounts for less than 1 percent of the total annual enplanements at Rogue valley International—Medford Airport.

Brief Description of Project Approved for Collection and Use: Security enhancements.

Decision Date: November 22, 2002

For Further Information Contact: Suzanne Lee-Pang, Seattle Airports District Office, (425) 227-2654.

Public Agency: Bradford Regional Airport Authority, Lewis Run, Pennsylvania.

Application Number: 02-02-C-00-BFD.

Application Type: Impose and use a PFC.

PFC Level: $4.50.

Total PFC Revenue Approved in This Decision: $414,738.

Earliest Charge Effective Date: May 1, 2003.

Estimated Charge Expiration Date: December 1, 2009.

Class of Air Carriers Not Required to Collect PFC's: Air taxi/commercial operations filing FAA Form 1800-31.

Determination: Approved. Based on the information in the public agency's application, the FAA has determined that the approved class accounts for less than 1 percent of the total annual enplanements at Bradford Regional Airport.

Brief Description of Projects Approved for Collection and Use:

Passenger chairlift.

T-Hangar taxiway and drainage swale.

Runway 5/23 lighting.

Parallel taxiway to runway 32 phase I.

Water treatment plant upgrade.

Parallel taxiway runway 14, phase II.

Airport master plan.

Rehabilitate taxiways A and B.

Rehabilitate taxiways.

Acquire multi-purpose safety vehicle.

Conduct 5 year environmental assessment.

Rehabilitate runway 5/23/improve runway 5 end safety area.

Snow removal equipment—tractor and plow.

Snow removal equipment—plow.

PFC application formulation and administration.

Brief Description of Projects Approved for Collection:

Deicing equipment/facility.

Rehabilitate access road.

Land acquisition/obstruction removal.

Runway 32 safety area, phase II.

Decision Date: November 22, 2002.

For Further Information Contact: Lori Ledebohm, Harrisburg Airports District Office, (717) 730-2835.

Amendments To PFC Approvals
Amendment No., city, state | Amendment approved date | Original approved net PFC revenue | Amended approved net PFC revenue | Original estimated charge exp. date | Amended estimated charge exp. date.
*00-03-C-01-EAT, Wenatchee, WA | 04/08/02 | $240,687 | $312,087 | 10/01/02 | 02/01/03
98-01-C-02-HRL, Harlingen, TX | 10/24/02 | 4,166,654 | 4,247,721 | 01/01/02 | 01/01/02
01-04-C-01-RIC, Richmond, VA | 11/04/02 | 4,570,342 | 3,900,333 | 11/01/16 | 09/01/16
98-07-I-04-PHL, Philadelphia, PA | 11/07/02 | 946,267,790 | 986,693,869 | 02/01/11 | 12/01/12
99-08-U-03-PHL, Philadelphia, PA | 11/07/02 | NA | NA | 02/01/11 | 12/01/12
94-01-C-04-MOD, Modesto, CA | 11/08/02 | 204,806 | 227,249 | 05/01/99 | 05/01/99
97-03-C-01-ONT, Ontario, CA | 11/08/02 | 45,680,000 | 80,680,000 | 01/01/03 | 09/01/05
94-01-C-03-TUP, Tupelo, MS | 11/15/02 | 430,550 | 457,216 | 03/01/04 | 06/01/03
98-02-U-02-TUP, Tupelo, MS | 11/15/02 | NA | NA | 03/01/04 | 06/01/03
01-07-C-01-CRW, Charleston, WV | 11/21/02 | 1,456,248 | 1,456,248 | 09/01/03 | 04/01/03
Note: The amendments denoted by an asterisk (*) include a change to the PFC level charged from $3.00 per enplaned passenger to $4.50 per enplaned passenger. For Wenatchee, WA, this change is effective on July 1, 2002.

Issued in Washington, DC on January 6, 2003.
Barry Molar,
Manager, Airports Financial Assistance Division.

[FR Doc. 03-654 Filed 1-10-03; 8:45 am]

BILLING CODE 4910-13-M